DEPARTMENT OF HEALTH AND HUMAN SERVICES

Centers for Disease Control and Prevention

[Docket No. NIOSH 278]

Board of Scientific Counselors, National Institute for Occupational Safety and Health (BSC, NIOSH)

AGENCY: Centers for Disease Control and Prevention (CDC), Department of Health and Human Services (HHS).

ACTION: Notice of meeting and request for comment.

SUMMARY: In accordance with the Federal Advisory Committee Act, the CDC announces the following virtual meeting of the Board of Scientific Counselors, National Institute for Occupational Safety and Health (BSC, NIOSH). This meeting is open to the public, limited only by the availability of telephone ports and webinar capacity. Time will be available for public comment. If you wish to attend by webcast or teleconference, please register at the NIOSH website http://www.cdc.gov/niosh/bsc/ or call (404-498-2581) at least five business days in advance of the meeting.

DATES: The meeting will be held on August 4, 2020, from 1:00 p.m.-5:00 p.m., EDT.

Written comments received by July 27, 2020 will be provided to the Board prior to the meeting. Docket number NIOSH-278, will close August 4, 2020, and will be considered by the National Firefighter Registry Program when developing the final protocol.

ADDRESSES: You may submit comments, identified by Docket No. NIOSH-278 by mail. CDC does not accept comment by email.

• Mail: Docket number NIOSH-278 c/o Sherri Diana, NIOSH Docket Office, National Institute for Occupational Safety and Health, 1090 Tusculum Avenue, MS C-34, Cincinnati, Ohio 45226.

Instructions: All submissions received must include the Agency name and Docket Number. Written public comments submitted by August 4, 2020 will be provided to the BSC, NIOSH prior to the meeting. Docket number NIOSH-278 will close August 4, 2020 and will be considered by the National Firefighter Registry Program when developing the final protocol.

FOR FURTHER INFORMATION CONTACT: Emily J.K. Novicki, M.A., M.P.H., Executive Secretary, BSC, NIOSH, CDC, 1600 Clifton Road, MS V24-4, Atlanta, GA, 30329, telephone (404) 498-2581, or email at enovicki@cdc.gov.

SUPPLEMENTARY INFORMATION:

Purpose: The Secretary, the Assistant Secretary for Health, and by delegation the Director, Centers for Disease Control and Prevention, are authorized under Sections 301 and 308 of the Public Health Service Act to conduct directly or by grants or contracts, research, experiments, and demonstrations relating to occupational safety and health and to mine health. The Board of Scientific Counselors provides guidance to the Director, National Institute for Occupational Safety and Health on research and prevention programs. Specifically, the Board provides guidance on the Institute's research activities related to developing and evaluating hypotheses, systematically documenting findings and disseminating results. The Board evaluates the degree to which the activities of the National Institute for Occupational Safety and Health: (1) Conform to appropriate scientific standards, (2) address current, relevant needs, and (3) produce intended results.

Meeting Information: Adobe Connect webcast will be available at https://odniosh.adobeconnect.com/nioshbsc/, and teleconference is available toll-free at (855) 644-0229, Participant Pass Code 9777483. This meeting is open to the public, limited only by the number of Adobe license seats available, which is 100.

Public Participation

Comments received are part of the public record and are subject to public disclosure. Do not include any information in your comment or supporting materials that you consider confidential or inappropriate for public disclosure. If you include your name, contact information, or other information that identifies you in the body of your comments, that information will be on public display. CDC will review all submissions and may choose to redact, or withhold, submissions containing private or proprietary information such as Social Security numbers, medical information, inappropriate language, or duplicate/near duplicate examples of a mass-mail campaign. CDC will carefully consider all comments submitted into the docket. CDC does not accept comment by email.

Oral Public Comment: The public is welcome to participate during the public comment period, from 2:00 p.m. to 2:15 p.m. EDT on August 4, 2020. Please note that the public comment period ends at the time indicated above. Comments should be specifically related to the National Firefighter Registry protocol draft report which can be found in docket number NIOSH-278 or by visiting the subcommittee website: https://www.cdc.gov/niosh/bsc/nfrs/. Each commenter will be provided up to five minutes for comment. A limited number of time slots are available and will be assigned on a first come-first served basis.

Procedure for Oral Public Comment: Members of the public who wish to address the NIOSH BSC are requested to contact the Executive Secretary for scheduling purposes (see contact information above).

Written Public Comment: Written comments will also be accepted from those unable to attend the public session per the instructions provided in the address section above. Written comments received in advance of the meeting will be included in the official record of the meeting.

Matters to be Considered: The agenda for the meeting addresses occupational safety and health issues related to: The Board of Scientific Counselors Subcommittee for the National Firefighter Registry (the Subcommittee) report pertaining to the protocol including the questionnaire, enrollment process, and data sharing. The Subcommittee will present their report and recommendations to BSC, who will then discuss and finalize the report and recommendations to the NIOSH Director. Agenda items are subject to change as priorities dictate. For more information on the meeting agenda visit the NIOSH website (http://www.cdc.gov/niosh/bsc/).

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2020-13300 Filed 6-19-20; 8:45 am]

BILLING CODE 4163-18-P